DEPARTMENT OF ENERGY

Federal Energy Regulatory Commission

Combined Notice of Filings #1

December 24, 2009.

Take notice that the Commission received the following electric corporate filings:

Docket Numbers: EC10-30-000.

Applicants: Trans Bay Cable LLC.

Description: Application of Trans Bay Cable LLC for Authorization to Dispose of Jurisdictional Facilities.

Filed Date: 12/18/2009.

Accession Number: 20091218-5237.

Comment Date: 5 p.m. Eastern Time on Friday, January 8, 2010.

Docket Numbers: EC10-31-000.

Applicants: Denver City Energy Associates, L.P.

Description: Denver City Energy Associates, LP submits an application for authorization for disposition of jurisdictional facilities and request for expedited order etc.

Filed Date: 12/18/2009.

Accession Number: 20091224-0017.

Comment Date: 5 p.m. Eastern Time on Friday, January 8, 2010.

Take notice that the Commission received the following exempt wholesale generator filings:

Docket Numbers: EG10-16-000.

Applicants: Cottonwood Energy Company LP.

Description: Notice of Self Certification of Exempt Wholesale Generator Status of Cottonwood Energy Company LP.

Filed Date: 12/22/2009.

Accession Number: 20091222-5248.

Comment Date: 5 p.m. Eastern Time on Tuesday, January 12, 2010.

Take notice that the Commission received the following electric rate filings:

Docket Numbers: ER04-505-001.

Applicants: Hawkeye Energy Greenport, LLC.

Description: Hawkeye Energy Greenport, LLC submits its application for a determination as a Category 1 Seller pursuant to Order No. 697 and 697-A.

Filed Date: 12/18/2009.

Accession Number: 20091222-0053.

Comment Date: 5 p.m. Eastern Time on Friday, January 8, 2010.

Docket Numbers: ER05-454-007; ER05-131-008; ER05-118-008; ER03-796-009; ER06-1446-006; ER06-642-006; ER06-784-005; ER06-804-003; ER06-805-004; ER07-527-003; ER07-528-005; ER08-1125-003.

Applicants: Bear Swamp Power Company LLC; Erie Boulevard Hydropower, LP; Carr Street Generating Station, L.P.; Katahdin Paper Company LLC; HAWKS NEST HYDRO LLC; Brookfield Power Piney & Deep Creek LLC; Rumford Falls Hydro LLC; Great Lakes Hydro America LLC; Brookfield Energy Marketing Inc.; Longview Fibre Paper and Packaging, Inc.; Brookfield Energy Marketing US LLC; Brookfield Renewable Energy Marketing US.

Description: Notice of Non-Material Change in Status of Brookfield Asset Management Inc.

Filed Date: 12/23/2009.

Accession Number: 20091223-5107.

Comment Date: 5 p.m. Eastern Time on Wednesday, January 13, 2010.

Docket Numbers: ER09-1286-003.

Applicants: Elizabethtown Energy, LLC.

Description: Supplemental to Notice of Non-Material Change in Status of Elizabethtown Energy, LLC.

Filed Date: 12/23/2009.

Accession Number: 20091223-5159.

Comment Date: 5 p.m. Eastern Time on Wednesday, January 13, 2010.

Docket Numbers: ER10-124-001.

Applicants: PJM Interconnection, L.L.C.

Description: PJM Interconnection, LLC submits a fully executed Network Integration Transmission Service Agreement dated as of 10/5/09 with Easton Utilities Commission for Network Integration Transmission Service etc.

Filed Date: 12/18/2009.

Accession Number: 20091222-0055.

Comment Date: 5 p.m. Eastern Time on Friday, January 8, 2010.

Docket Numbers: ER10-450-000.

Applicants: Arlington Valley, LLC.

Description: Arlington Valley, LLC submits a Notice of Succession notifying the Commission of a name change from Dynergy Arlington Valley, LLC under FERC Electric Tariff, Third Revised Volume 1.

Filed Date: 12/18/2009.

Accession Number: 20091222-0049.

Comment Date: 5 p.m. Eastern Time on Friday, January 8, 2010.

Docket Numbers: ER10-451-000.

Applicants: Saracen Power LP.

Description: Saracen Power LP submits a Notice of Succession to reflect adoption of Saracen Power LLC's Rate Schedule FERC No 1.

Filed Date: 12/17/2009.

Accession Number: 20091222-0050.

Comment Date: 5 p.m. Eastern Time on Thursday, January 7, 2010.

Docket Numbers: ER10-452-000.

Applicants: EWO Marketing, L.P.

Description: EWO Marketing, LP submits Notices of Termination canceling several service agreements etc pursuant to the requirements set forth in Order No 614.

Filed Date: 12/18/2009.

Accession Number: 20091222-0051.

Comment Date: 5 p.m. Eastern Time on Friday, January 8, 2010.

Docket Numbers: ER10-453-000.

Applicants: PacifiCorp.

Description: PacifiCorp submits Revised Exhibits to the Cooperative Communications Agreement with Bonneville Power Administration designated as First Revised Sheet 68 et al.

Filed Date: 12/18/2009.

Accession Number: 20091222-0052.

Comment Date: 5 p.m. Eastern Time on Friday, January 8, 2010.

Docket Numbers: ER10-456-000; ER10-456-001; ER10-457-000.

Applicants: EWO Marketing, Inc.

Description: EWO Marketing, Inc submits a Notice of Non-Material Change in Status and Notice of Succession.

Filed Date: 12/18/2009.

Accession Number: 20091222-0062

Comment Date: 5 p.m. Eastern Time on Friday, January 8, 2010.

Docket Numbers: ER10-455-000.

Applicants: Ameren Energy Marketing Company.

Description: Ameren Energy Generating Company et al. submits two proposed revised rate schedules Rate Schedule 6 & Rate Schedule 4 with supporting cost data.

Filed Date: 12/22/2009.

Accession Number: 20091222-0063.

Comment Date: 5 p.m. Eastern Time on Tuesday, January 12, 2010.

Docket Numbers: ER10-462-000.

Applicants: T.E.S Filer City Station Ltd Partnership.

Description: T.E.S. Filer City Station Limited Partnership submits an application seeking approval of a Reactive Power Supply Tariff Application.

Filed Date: 12/22/2009.

Accession Number: 20091223-0089.

Comment Date: 5 p.m. Eastern Time on Tuesday, January 12, 2010.

Docket Numbers: ER10-463-000.

Applicants: Florida Power Corporation.

Description: Florida Power Corporation submits a Notice of Cancellation of a power sales tariff, Electric Service for Eligible Purchasers, FERC Electric Tariff, Second Revised Volume 3 etc.

Filed Date: 12/22/2009.

Accession Number: 20091223-0088.

Comment Date: 5 p.m. Eastern Time on Tuesday, January 12, 2010.

Docket Numbers: ER10-464-000.

Applicants: PJM Interconnection, L.L.C.

Description: PJM Interconnection, LLC submits an executed interconnection service agreement with Chestnut Flats Wind, LLC et al. effective November 20, 2009.

Filed Date: 12/22/2009.

Accession Number: 20091223-0087.

Comment Date: 5 p.m. Eastern Time on Tuesday, January 12, 2010.

Docket Numbers: ER10-465-000.

Applicants: Carolina Power & Light Company.

Description: Carolina Power & Light Company submits a Network Integration Transmission Service Agreement and Network Operating Agreement with the City of Seneca, SC.

Filed Date: 12/22/2009.

Accession Number: 20091223-0086.

Comment Date: 5 p.m. Eastern Time on Tuesday, January 12, 2010.

Docket Numbers: ER10-466-000.

Applicants: California Independent System Operator Corporation.

Description: The California Independent System Operator Corporation submits informational filing to provide notice regarding the revised transmission access charges etc.

Filed Date: 12/22/2009.

Accession Number: 20091223-0084.

Comment Date: 5 p.m. Eastern Time on Tuesday, January 12, 2010.

Docket Numbers: ER10-467-000.

Applicants: San Diego Gas & Electric Company.

Description: San Diego Gas & Electric Co submits revisions to reflect annual updates, retail Transmission Access Charge Balancing Account Adjustment rates etc.

Filed Date: 12/22/2009.

Accession Number: 20091223-0090.

Comment Date: 5 p.m. Eastern Time on Tuesday, January 12, 2010.

Docket Numbers: ER10-481-000.

Applicants: Public Service Electric and Gas Company.

Description: Public Service Electric and Gas Co's CD to their submittal of First Revised Sheet No. 36 et al. to its FERC Electric Tariff.

Filed Date: 12/23/2009.

Accession Number: 20091223-4004.

Comment Date: 5 p.m. Eastern Time on Wednesday, January 13, 2010.

Docket Numbers: ER10-497-000.

Applicants: Niagara Mohawk Power Corporation.

Description: Niagara Mohawk Power Corp's CD to their submittal of a Notice of Cancellation of Service Agreement No. 41 et al.

Filed Date: 12/23/2009.

Accession Number: 20091223-4006.

Comment Date: 5 p.m. Eastern Time on Wednesday, January 13, 2010.

Take notice that the Commission received the following electric securities filings:

Docket Numbers: ES10-13-001.

Applicants: FirstEnergy Service Company.

Description: Amendment to Application of FirstEnergy Service Company for authorization for Pennsylvania Power Company, Pennsylvania Electric Company, Jersey Central Power & Light Company and Metropolitan Edison Company to issue short-term securities.

Filed Date: 12/22/2009.

Accession Number: 20091222-5257.

Comment Date: 5 p.m. Eastern Time on Monday, January 4, 2010.

Docket Numbers: ES10-18-000.

Applicants: Wolverine Power Supply Cooperative, Inc.

Description: Application for Authorization of the Assumption of Liabilities and the Issuance of Securities Under Section 204 of the Federal Power Act of Wolverine Power Supply Cooperative, Inc.

Filed Date: 12/23/2009.

Accession Number: 20091223-5105.

Comment Date: 5 p.m. Eastern Time on Wednesday, January 13, 2010.

Docket Numbers: ES10-19-000.

Applicants: KCP&L Greater Missouri Operations Company.

Description: KCP&L Greater Missouri Operations Co submits an application for authorization under Section 204(A) to issue short-term debt.

Filed Date: 12/22/2009.

Accession Number: 20091224-0014.

Comment Date: 5 p.m. Eastern Time on Tuesday, January 12, 2010.

Docket Numbers: ES10-20-000.

Applicants: Ameren Services Company, Ameren Energy Generating Company, Central Illinois Public Service Company, Central Illinois Light Company, Union Electric Company.

Description: Application of Ameren Services Co., Union Electric Co., Central Illinois Public Service Co., Central Illinois Light Co., and Ameren Energy Generating Co. for Authorizations Under Federal Power Act Section 204.

Filed Date: 12/22/2009.

Accession Number: 20091222-5260.

Comment Date: 5 p.m. Eastern Time on Tuesday, January 12, 2010.

Take notice that the Commission received the following public utility holding company filings:

Docket Numbers: PH10-1-000.

Applicants: NSTAR Companies.

Description: Waiver Notification, Form FERC-65B, of Aircraft Services Corporation, et al.

Filed Date: 12/23/2009.

Accession Number: 20091223-5110.

Comment Date: 5 p.m. Eastern Time on Wednesday, January 13, 2010.

Docket Numbers: PH10-4-000.

Applicants: Brookfield Asset Management Inc.

Description: Brookfield Asset Management Inc., et al., Notification of Waiver Form FERC-65B.

Filed Date: 12/22/2009.

Accession Number: 20091222-5219.

Comment Date: 5 p.m. Eastern Time on Tuesday, January 12, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E9-31356 Filed 1-4-10; 8:45 am]

BILLING CODE 6717-01-P